DEPARTMENT OF VETERANS AFFAIRS

[OMB Control No. 2900-0055]

Agency Information Collection (Request for Determination of Loan Guaranty Eligibility Unmarried Surviving Spouses, VA Form 26-1817) Activity Under OMB Review

AGENCY: Veterans Benefits Administration, Department of Veterans Affairs.

ACTION: Notice.

SUMMARY: In Compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before August 5, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0055” in any correspondence.

FOR FURTHER INFORMATION CONTACT: Kathleen Manwell, Enterprise Records Service (005R1A), Department of Veterans Affairs, 810 Vermont Avenue NW., Washington, DC 20420, (202) 632-7474 or email kathleen.manwell@va.gov. Please refer to “OMB Control No. 2900-0055.”

SUPPLEMENTARY INFORMATION:

Title: Request for Determination of Loan Guaranty Eligibility Unmarried Surviving Spouses.

OMB Control Number: 2900-0055.

Type of Review: Revision of a currently approved collection.

Abstract

Section 3702(c) of Title 38, U.S.C. states that any veteran may apply to the Secretary for a COE. A completed VA Form 26-1817 constitutes a formal request by an un-remarried surviving spouse for a COE.

An agency may not conduct or sponsor, and a person is not required to respond to a collection of information unless it displays a currently valid OMB control number. The Federal Register Notice with a 60-day comment period soliciting comments on this collection of information was published at 81 FR 07444 on April 4, 2016.

Affected Public: Individuals or households.

Estimated Annual Burden: 833 hours.

Estimated Average Burden per Respondent: 10 minutes.

Frequency of Response: One-time.

Estimated Number of Respondents: 5000.

By direction of the Secretary:
Kathleen M. Manwell,
Program Analyst, VA Privacy Service, Office of Privacy and Records Management, Department of Veterans Affairs.

[FR Doc. 2016-15984 Filed 7-5-16; 8:45 am]

BILLING CODE 8320-01-P